NUCLEAR REGULATORY COMMISSION

10 CFR Parts 150, 170 and 171

RIN 3150-AG73

Revision of Fee Schedules; Fee Recovery for FY 2001

Correction

In proposed rule document 01-7356 beginning on page 16982 in the issue of Wednesday, March 28, 2001, make the following corrections:

1. On page 16984, in the table, in the second column, the heading “Reactor materials” should read “Reactor program”.

§171.16 [Corrected]

2. On page 16999, in the table, in the first column, in the first line, “Endangered” should read “Engaged”.

Appendix A to Parts 170 to 171 [Corrected]

3. On page 17004, in the second column, the heading “IV. 40 Summary ” should read “IV. Summary”.

4. On page 17005, at the end of the third column, add the following text and the FRDOC line:

“licensee qualifies, resulting in a fee of either $1150 or $250 for each fee category billed, instead of the small entity annual fee of $2,300 or $500.

A new small entity form (NRC Form 526) must be filed with the NRC each fiscal year to qualify for reduced fees in that year. Because a licensee's “size,” or the size standards, may change from year to year, the invoice reflects the full fee and a new Form 526 must be completed and returned in order for the fee to be reduced to the small entity fee amount. LICENSEES WILL NOT BE ISSUED A NEW INVOICE FOR THE REDUCED AMOUNT. The completed NRC Form 526, the payment of the appropriate small entity fee, and the “Payment Copy” of the invoice should be mailed to the U. S. Nuclear Regulatory Commission, License Fee and Accounts Receivable Branch at the address indicated on the invoice.

If you have questions regarding the NRC's annual fees, please call the license fee staff at 301-415-7554, e-mail the fee staff at fees@nrc.gov, or write to the U. S. Nuclear Regulatory Commission, Washington, DC 20555, Attention: Office of the Chief Financial Officer.

False certification of small entity status could result in civil sanctions being imposed by the NRC under the Program Fraud Civil Remedies Act, 31 U.S.C. 3801 et seq. NRC's implementing regulations are found at 10 CFR Part 13.

[FR Doc. 01-7356 Filed 3-27-01; 8:45 am]

BILLING CODE 7590-01-U

[FR Doc. C1-7356 Filed 4-17-01; 8:45 am]

BILLING CODE 1505-01-D